DEPARTMENT OF COMMERCE

International Trade Administration

[A-469-817]

Ripe Olives From Spain: Final Results of Antidumping Duty Administrative Review; 2022-2023

AGENCY: Enforcement and Compliance, International Trade Administration, Department of Commerce.

SUMMARY: The U.S. Department of Commerce (Commerce) determines that certain producers/exporters subject to this administrative review made sales of subject merchandise at less than normal value during the period of review (POR) August 1, 2022, through July 31, 2023.

DATES: Applicable June 16, 2025.

FOR FURTHER INFORMATION CONTACT: Paul Kebker or Maria Aymerich, AD/CVD Operations, Office IV, Enforcement and Compliance, International Trade Administration, U.S. Department of Commerce, 1401 Constitution Avenue NW, Washington, DC 20230; telephone: (202) 482-5075 and (202) 482-1785, respectively.

SUPPLEMENTARY INFORMATION:

Background

On September 12, 2024, Commerce published the Preliminary Results of the 2022-2023 administrative review of the antidumping duty order on ripe olives from Spain and invited comments from interested parties.¹ On December 9, 2024, Commerce tolled administrative deadlines by 90 days.² On March 18, 2025, Commerce extended the deadline for issuing the final results until June 9, 2025.³ For a complete description of the events that occurred since the Preliminary Results, see the Issues and Decision Memorandum.⁴ Commerce conducted this review in accordance with section 751(a)(1)(B) of the Tariff Act of 1930, as amended (the Act).

¹ See Ripe Olives from Spain: Preliminary Results of Antidumping Duty Administrative Review, and Partial Rescission of Review; 2022-2023, 89 FR 74207 (September 12, 2024) (Preliminary Results), and accompanying Preliminary Decision Memorandum (PDM).

² See Memorandum, “Tolling of Deadlines for Antidumping and Countervailing Duty Proceedings,” dated December 9, 2024.

³ See Memorandum, “Extension of Deadline for Final Results of the Antidumping Duty Administrative Review,” dated March 18, 2025.

⁴ See Memorandum, “Issues and Decision Memorandum for the Final Results of Antidumping Duty Administrative Review of Ripe Olives from Spain; 2022-2023,” dated concurrently with, and hereby adopted by this notice (Issues and Decision Memorandum).

Scope of the Order ⁵

⁵ See Ripe Olives from Spain: Antidumping Duty Order, 83 FR 37465 (August 1, 2018); see also Ripe Olives from Spain: Notice of Correction to Antidumping Duty Order, 83 FR 39691 (August 10, 2018) (collectively, Order).

The products covered by the Order are ripe olives from Spain. For a full description of the scope of the Order, see the Issues and Decision Memorandum.⁶

⁶ See Issues and Decision Memorandum.

Analysis of Comments Received

The issues raised by the interested parties in their case and rebuttal briefs are addressed in the Issues and Decision Memorandum. The topics discussed and the issues raised by parties to which we responded in the Issues and Decision Memorandum are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on the comments received from interested parties, we made certain changes to the Preliminary Results. For further discussion of these changes, see the Issues and Decision Memorandum.

Rate for Non-Examined Companies

The statute and Commerce's regulations do not address the establishment of a rate to be assigned to respondents not selected for individual examination when Commerce limits its examination of companies subject to the administrative review pursuant to section 777A(c)(2)(B) of the Act. Generally, Commerce looks to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, in the final results of review, we are assigning to the companies not individually examined, listed in the chart below, an estimated weighted-average dumping margin based on the average of Agro Sevilla Aceitunas, S. Coop.And.'s (Agro Sevilla), and Angel Camacho Alimentación, S.L.'s (Camacho) rates weighted by their publicly available ranged U.S. sales values.⁷

⁷ See Preliminary Results PDM at 4, unchanged in these final results; see also Memorandum, “Calculation of the Final Margin for Respondents Not Selected for Individual Examination,” dated concurrently with this notice.

Final Results of Review

Commerce determines that the following estimated weighted-average dumping margins exist for the period August 1, 2022, through July 31, 2023:

Producer/exporter | Weighted-average dumping margin (percent)
Agro Sevilla Aceitunas, S. Coop. And | 2.64
Angel Camacho Alimentación, S.L | 3.68
Aceitunera del Norte de Cáceres, S.Coop.Ltda. de 2 Grado | 3.08
Alimentary Group DCOOP, S.Coop. And | 3.08

Disclosure

Commerce intends to disclose its calculations and analysis performed to interested parties for these preliminary results within five days of any public announcement or, if there is no public announcement, within five days of the date of publication of this notice in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with the final results of this review. Because the weighted-average dumping margins for Agro Sevilla and Camacho are not zero or de minimis (i.e., less than 0.5 percent) in the final results of this review, we calculated an importer-specific assessment rate based on the ratio of the total amount of dumping calculated for each importer's examined sales and the total entered value of those same sales in accordance with 19 CFR 351.212(b)(1).⁸ Where an importer-specific assessment rate is de minimis (i.e., less than 0.5 percent), the entries by that importer will be liquidated without regard to antidumping duties. The final results of this administrative review shall be the basis for the assessment of antidumping duties on entries of merchandise covered by the final results of this review and for future deposits of estimated duties, where applicable.⁹

⁸ In these final results, Commerce applied the assessment rate calculation method adopted in Antidumping Proceedings: Calculation of the Weighted-Average Dumping Margin and Assessment Rate in Certain Antidumping Duty Proceedings; Final Modification, 77 FR 8101 (February 14, 2012).

⁹ See section 751(a)(2)(C) of the Act.

For all non-selected separate rate applicants subject to this review, we will instruct CBP to liquidate all entries of subject merchandise that entered the United States during the POR at the average of the rates calculated for Agro Sevilla and Camacho as listed above. For entries of subject merchandise during the POR produced by either of the individually examined respondents for which they did not know that the merchandise was destined for the United States, we will instruct CBP to liquidate these entries at the all-others rate if there is no rate for the intermediate company(ies) involved in the transaction.¹⁰

¹⁰ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of ripe olives from Spain entered, or withdrawn from warehouse, for consumption on or after the date of publication as provided by section 751(a)(2) of the Act: (1) the cash deposit rate for companies subject to this review will be equal to the weighted-average dumping margins established in the final results of the review; (2) for merchandise exported by companies not covered in this review but covered in a prior segment of this proceeding, the cash deposit rate will continue to be the company-specific rate published in the completed segment for the most recent period; (3) if the exporter is not a firm covered in this review, a prior review, or the original less-than-fair-value (LTFV) investigation but the producer is, then the cash deposit rate will be the rate established in the completed segment for the most recent period for the producer of the merchandise; and (4) the cash deposit rate for all other producers or exporters will continue to be 19.98 percent,¹¹ the all-others rate established in the LTFV investigation. These cash deposit requirements, when imposed, shall remain in effect until further notice.

¹¹ See Ripe Olives from Spain: Final Affirmative Determination of Sales at Less Than Fair Value, 83 FR 28193 (June 18, 2018).

Notification to Importers

This notice serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of the countervailing duties.

Administrative Protective Order

This notice also serves as a final reminder to parties subject to administrative protective order (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

Commerce is issuing and publishing this notice in accordance with sections 751(a)(1) and 777(i)(1) of the Act and 19 CFR 351.221(b)(5).

Dated: June 9, 2025.
Steven Presing,
Acting Deputy Assistant Secretary for Policy and Negotiations.

Appendix

List of Topics Discussed in the Issues and Decision Memorandum

I. Summary

II. Background

III. Scope of the Order

IV. Changes Since the Preliminary Results

V. Discussion of the Issues

Comment 1: Whether Commerce Included the Correct Expenses in Agro Sevilla's U.S. Direct Selling Expenses in the Margin Program

Comment 2: Whether Commerce Included the Correct Expenses in Camacho's U.S. International Movement Expenses in the Margin Program

Comment 3: Whether Commerce Properly Accounted for Certain of Camacho's Home Market Advertising Expenses in the Comparison Market Program

Comment 4: Whether Commerce Referenced the Correct All-Others Rate in the Preliminary Results

Comment 5: Whether to Make Certain Changes to Commerce's Major Input Analysis of Agro Sevilla

Comment 6: Whether Commerce Erred in Applying Its Differential Pricing Analysis to Agro Sevilla's and Camacho's Sales

VI. Recommendation

[FR Doc. 2025-10944 Filed 6-13-25; 8:45 am]

BILLING CODE 3510-DS-P